DEPARTMENT OF HEALTH AND HUMAN SERVICES

Administration for Children and Families

Submission for OMB Review; National Advisory Committee (NAC) Recommendations and State Self-Assessment Survey

AGENCY: Office on Trafficking in Persons, Administration for Children and Families, HHS.

ACTION: Request for public comment.

SUMMARY: The Administration for Children and Families (ACF) is requesting an extension to continue use of an existing information collection: The National Advisory Committee on the Sex Trafficking of Children and Youth in the United States (NAC) Recommendations and State Self-Assessment Survey (0970-0560). No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION:

Description: The Preventing Sex Trafficking and Strengthening Families Act of 2014 mandated the NAC to develop a report describing how each state has implemented its recommendations to address sex trafficking in children and youth. The NAC proposed to administer a survey allowing states to assess their progress in implementing NAC recommendations. Submissions allow states to document their efforts in the following sections: Multidisciplinary Response, Screening and Identification, Child Welfare, Service Provision, Housing, Law Enforcement and Prosecution, Judiciary, Demand Reduction, Prevention, Legislation and Regulation, Research and Data, and Funding. Each state will have the opportunity to provide a self-assessed tier ranking for each recommendation, a justification of their assessment, sources for their assessment, and the public or private nature of those sources. The survey was initially launched in March 2021 with a due date in June 2021. We are requesting an extension to allow states ample time to collaborate and compile their responses. There are no changes proposed.

Respondents: State Governors, child welfare agencies, local law enforcement, and other local agencies.

Annual Burden Estimates: Each state is responsible for collaborating with governors, law enforcement agencies, prosecutors, courts, child welfare agencies, and other local agencies and relevant groups to provide their self-assessment of their state's implementation efforts. The opportunity burden is calculated below, assuming five respondents for each state:

Table 1—Opportunity Burden
Instrument | Total number of respondents contributing for 50 states | Total number of responses per respondent | Average burden hours per response | Total/annual burden hours
NAC Recommendations and State Self-Assessment Survey | 250 | 1 | 6.85 | 1,713
Estimated Opportunity Burden Totals |  |  |  | 1,713

Estimated Total Annual Opportunity Burden Hours: 1,713.

States also have one designated point of contact responsible for aggregating information and submitting the state response. The recordkeeping burden is calculated below:

Table 2—Recordkeeping Burden
Instrument | Total number of respondents | Total number of responses per respondent | Average burden hours per response | Total/annual burden hours
NAC Recommendations and State Self-Assessment Survey | 50 | 1 | 40 | 2,000
Estimated Recordkeeping Burden Totals |  |  |  | 2,000

Estimated Total Annual Recordkeeping Burden Hours: 2,000.

Authority: Pub. L. 113-183.

Mary B. Jones,
ACF/OPRE Certifying Officer.

[FR Doc. 2021-22479 Filed 10-14-21; 8:45 am]

BILLING CODE 4184-47-P